DEPARTMENT OF COMMERCE

Submission for OMB Review; Comment Request

The Department of Commerce will submit to the Office of Management and Budget (OMB) for clearance the following proposal for collection of information under the provisions of the Paperwork Reduction Act (44 U.S.C. Chapter 35).

Agency: International Trade Administration (ITA).

Title: Client Satisfaction Surveys.

OMB Control Number: 0625-0217.

Form Number(s): ITA-4107.

Type of Request: Regular submission (Revision).

Burden Hours: 879.

Number of Respondents: 10,150.

Average Hours per Response: 5 minutes.

Needs and Uses: Expanding U.S. exports is a national priority essential to improving U.S. trade performance. The Department of Commerce's International Trade Administration including Market Access and Compliance (MAC) and the U.S. Commercial Service (CS) are key U.S. government agencies responsible for assisting U.S. companies to export and/or conduct business overseas. The CS provides export promotion services such as market research, client counseling and trade missions. MACs Trade Agreements Compliance (TAC) Center assists clients with resolving market access barriers.

To accomplish its mission effectively and efficiently ITA requires ongoing client feedback on its programs. The feedback is used to improve its services to better meet clients' needs and to ensure that clients are provided with effective and appropriate export services.

Currently, the clients have the opportunity to provide feedback via an electronic link to a comment card at the completion of each pay-for-use service, trade promotion event and advocacy case. The CS would also like to provide clients with the opportunity to submit feedback at any time by clicking on a comment card link at the bottom of its staffs' e-mail messages (taglines).

Affected Public: Business or other for-profit organizations.

Frequency: On occasion.

Respondent's Obligation: Voluntary.

OMB Desk Officer: Wendy L. Liberante, (202) 395-3647.

Copies of the above information collection proposal can be obtained by calling or writing Diana Hynek, Departmental Paperwork Clearance Officer, (202) 482-0266, Department of Commerce, Room 7845, 14th and Constitution Avenue, NW., Washington, DC 20230 (or via the Internet at dHynek@doc.gov).

Written comments and recommendations for the proposed information collection should be sent within 30 days of publication of this notice to Wendy Liberante, OMB Desk Officer, FAX number (202) 395-5167 or via the Internet at Wendy_L._Liberante@omb.eop.gov.

Dated: March 26, 2009.
Gwellnar Banks,
Management Analyst, Office of the Chief Information Officer.

[FR Doc. E9-7156 Filed 3-30-09; 8:45 am]

BILLING CODE 3510-FP-P